DEPARTMENT OF TRANSPORTATION

Federal Motor Carrier Safety Administration

[Docket No. FMCSA-2014-0325]

Agency Information Collection Activities; New Information Collection Request: The Impact of Driver Compensation on Commercial Motor Vehicle Safety; Correction

AGENCY: Federal Motor Carrier Safety Administration (FMCSA), DOT.

ACTION: Notice and request for comments; correction.

SUMMARY: The FMCSA published a document in the Federal Register of February 4, 2015, concerning a request for comments on new information collection burdens titled, “The Impact of Driver Compensation on Commercial Motor Vehicle Safety,” to assess the current compensation practices of commercial vehicle drivers and the potential influence this may have on safe commercial vehicle operations. The document contained incorrect estimated times per response and estimated total annual burdens.

DATES: Comments are due April 24, 2015.

FOR FURTHER INFORMATION CONTACT: Ms. Theresa Hallquist, Telephone: 202-366-1064; email: theresa.hallquist@dot.gov.

Correction

1. In the Federal Register of February 4, 2015, in FR Doc. 2015-02136, on page 6159, in the second column, correct the “Estimated Time Per Response” paragraph to read:

Estimated Time per Response: Minimum response = 0.35; Maximum response = 1.18 hours.

2. In the Federal Register of February 4, 2015, in FR Doc. 2015-02136, on page 6159, in the third column, correct the “Estimated Total Annual Burden” paragraph to read:

Estimated Total Annual Burden: 1,611 hours (Group 1 is defined as very small and small carriers and Group 2 is defined as medium and large carriers. (1164 Group 1 respondents × 0.35 hour = 407 hours) + (1020 Group 2 respondents × 1.18 hours = 1,204 hours)).

Issued under the authority of 49 CFR 1.87 on: March 13, 2015.
Larry W. Minor,
Associate Administrator for Policy.

[FR Doc. 2015-06821 Filed 3-24-15; 8:45 am]

BILLING CODE 4910-EX-P